DEPARTMENT OF ENERGY

Federal Energy Regulatory Commission

[Docket No. RP14-638-000, Docket No. CP14-125-000 and Docket No. CP14-126-000]

Atmos Energy Corporation v. American Midstream (Midla) LLC, American Midstream (Midla) LLC, American Midstream (Midla) LLC; Notice of Informal Settlement Conference

On March 24, 2014, in Docket No. RP14-638-000, Atmos Energy Corporation (Atmos) filed a complaint against American Midstream (Midla) LLC (Midla) alleging, among other things, that Midla's open season notice and process violate the requirements of section 7(b) of the Natural Gas Act. On March 28, 2014, in Docket No. CP14-125-000, Midla filed an application under section 7(b) of the NGA to abandon segments of its jurisdictional pipeline that are currently used to provide service to Atmos, as well as other shippers. Concurrently, Midla filed a prior notice filing in Docket No. CP14-126-000 requesting to abandon the remainder of its jurisdictional pipeline by sale to an affiliate.

The parties met with the Director of the Dispute Resolution and agreed upon a mediation process to attempt to resolve issues in the above complaints. Another mediation session is scheduled for July 24 and July 25, 2014 beginning on July 24 at 1:30 p.m. in Hearing Room 5, and on July 25 at a time to be determined in Conference Room 3M-3 at the Federal Energy Regulatory Commission, 888 First Street NE., Washington, DC. The parties will continue to work toward resolution of the issues through the mediation efforts. At the conclusion of the ADR process, if successful, the parties will submit a settlement agreement for Commission review and approval. If a party has any questions and for access to the building, please contact Dispute Resolution Division, Support Specialist, Sara Klynsma, at (202) 502-8259.

FERC conferences are accessible under section 508 of the Rehabilitation Act of 1973. For accessibility accommodations please send an email to accessibility@ferc.gov or call toll free 1-866-208-3372 (voice) or 202-208-8659 (TTY), or send a FAX to 202-208-2106 with the required accommodations.

Dated: July 18, 2014.
Kimberly D. Bose,
Secretary.

[FR Doc. 2014-17757 Filed 7-28-14; 8:45 am]

BILLING CODE 6717-01-P